DEPARTMENT OF THE TREASURY

Financial Crimes Enforcement Network; Suspicious Activity Reporting; Release of Revised Suspicious Activity Reports

AGENCY: Financial Crimes Enforcement Network, Department of the Treasury.

ACTION: Notice.

SUMMARY: The Financial Crimes Enforcement Network (“FinCEN”) is issuing this notice to communicate a delay in the dates for using the revised Suspicious Activity Report (“SAR”) forms. The revised SAR forms that support joint filing were originally scheduled to become effective on June 30, 2007 and mandatory on December 31, 2007. FinCEN will establish new dates for using the revised SAR forms in a future notice.

FOR FURTHER INFORMATION CONTACT: Regulatory Policy and Programs Division, Financial Crimes Enforcement Network at (800) 949-2732.

SUPPLEMENTARY INFORMATION:

Background

It is FinCEN's intention to implement revised SAR forms that facilitate joint filing for depository institutions,¹ casinos and card clubs,² insurance companies,³ and the securities and futures industries.⁴ On December 21, 2006, FinCEN issued a notice on its Web site explaining that financial institutions would be able to begin filing the revised SAR forms with FinCEN on June 30, 2007.⁵ We are postponing this date and the date by which use of the revised forms becomes mandatory because of recently implemented data quality initiatives. FinCEN will provide advance notice of the new dates for using the revised forms at a future time. In the meantime, financial institutions will continue to report suspicious activities using the existing SAR forms.⁶

¹ 31 CFR 103.18.

² 31 CFR 103.21.

³ 31 CFR 103.16.

⁴ 31 CFR 103.15, 103.17, and 103.19.

⁵ See Additional Suspicious Activity Reports (SAR) Revised for Other Industries to Support Joint Filing and Reduce Duplicate SARs, http://www.fincen.gov.

⁶ The current SAR forms can be found on FinCEN's Web page at: http://www.fincen.gov/reg_bsaforms.html#SAR.

Dated: April 26, 2007.
William F. Baity,
Deputy Director, Financial Crimes Enforcement Network.

[FR Doc. E7-8320 Filed 4-30-07; 8:45 am]

BILLING CODE 4810-02-P